DEPARTMENT OF ENERGY

Federal Energy Regulatory Commission

[Docket No. PF08-3-000]

White River Hub, LLC; Notice of Intent To Prepare an Environmental Assessment for the White River Hub Project and Request for Comments oOn Environmental Issues

November 9, 2007.

The Federal Energy Regulatory Commission (FERC or Commission) and the U.S. Department of the Interior's Bureau of Land Management (BLM) are evaluating the White River Hub Project, planned by White River Hub, LLC (White River). The project includes construction of about 6.5 miles of new pipeline and related facilities; a new compressor station; and acquisition of about 3 miles of existing pipeline, all in Rio Blanco County, Colorado. As part of this evaluation, the Commission staff (as the lead federal agency for satisfying the requirements of the National Environmental Policy Act of 1969 [NEPA]) will prepare an environmental assessment (EA) to identify and address environmental impacts that could result from construction and operation of the project. The EA will be prepared with the assistance and cooperation of the BLM's White River Field Office staff in Meeker, Colorado. The Commission and the BLM (Agencies) will use the EA in their respective decision-making processes to determine whether to authorize the planned project.

This Notice describes the project-related facilities and explains the scoping process that the Agencies will use to gather input from the public and interested agencies on the planned project. Your input will help determine the issues that need to be addressed in the EA. Please note that the scoping period for the planned project will close on December 10, 2007.

This Notice is being sent to federal, state, and local government agencies; elected officials; environmental and public interest groups; Native American tribes; other interested parties; and local libraries and newspapers. This includes all landowners who are potential right-of-way grantors, whose property may be used temporarily for project purposes, or who own homes within distances defined in the Commission's regulations of certain aboveground facilities. We encourage government representatives to notify their constituents of this planned project and encourage them to comment on their areas of concern. To ensure that your comments are considered, please follow the instructions in the Public Participation section below.

With this Notice, we ¹ are asking other federal, state, and local agencies with jurisdiction and/or special expertise with respect to environmental issues in the project area to formally cooperate with us in the preparation of this EA. These agencies may choose to participate once they have evaluated the planned project relative to their responsibilities. Entities that would like to request cooperating agency status should follow the instructions for filing comments described in the Public Participation section of this Notice.

¹ “We,” “us,” and “our” refer to the environmental staff of the Commission's Office of Energy Projects.

If you are a landowner receiving this Notice, you may be contacted by a White River representative about the acquisition of an easement to construct, operate, and maintain the proposed pipeline facilities. The pipeline company would seek to negotiate a mutually acceptable agreement to cover the easement, damages that may occur during construction, and any other issues raised by the landowner. The Commission encourages pipeline companies to acquire as much of the right-of-way (ROW) as possible by negotiation with the landowners. If the FERC approves the project, that approval will convey with it the right of eminent domain to secure easements for the facilities. Eminent domain is intended for use when easement negotiations fail to produce an agreement. In such instances, the pipeline company could initiate condemnation proceedings in accordance with state law.

A fact sheet prepared by the FERC entitled “An Interstate Natural Gas Facility on My Land? What Do I Need to Know?” is available for viewing on the FERC Internet Web site (http://www.ferc.gov). This fact sheet addresses a number of typically asked questions, including the use of eminent domain for pipeline facilities and how to participate in the FERC's proceedings.

Summary of the Planned Project

White River plans to construct and operate the following facilities:

• About 6.5 miles of 30-inch-diameter pipeline, extending westward from the Greasewood Hub and a new interconnection (“tie-in”) with an existing 36-inch-diameter pipeline owned by Enterprise Products Operating LLC (Enterprise) near the Piceance Creek;

• A new tie-in with the Enterprise pipeline, including pig ² launching/receiving facilities and a new access road from County Road 5;

² A pipeline “pig” is a device to clean or inspect the pipeline internally. A pig launcher/receiver is an aboveground facility where pigs are inserted or retrieved from the pipeline.

• A new meter station at the Greasewood Hub end of the new pipeline, including a common header for interconnections with existing gas transporters at the Hub and pig launching/receiving facilities; and

• Other appurtenant facilities.

Within the fenced area of the new meter station, Questar Pipeline Company (Questar) would construct and operate new compression facilities consisting of up to three reciprocating engine-driven compressors totaling 7,700 horsepower. Equipment related to the compressor station would include gas coolers, a standby generator, and buildings to house the compressors and generators. While Questar would construct the compression facilities under its FERC-issued Blanket Certificate, potential impacts would be addressed in the EA.

White River would also acquire from Enterprise about 3 miles of 36-inch-diameter pipeline, extending between Enterprise's existing natural gas processing plant and the Rockies Express Compressor Station. All of the planned and existing facilities that constitute the White River Hub Project would be located in Rio Blanco County, Colorado. The general location of the project is shown in appendix 1.

Land Requirements for Construction

White River's pipeline construction design includes a 100-foot-wide ROW. The wide construction ROW would enable White River to store topsoil stripped from the full ROW separate from subsoils removed from the trench. At some locations, this width would be increased to 125-150 feet to accommodate rugged terrain, steep side-slopes, foreign pipeline crossings, access approaches, etc. Additional temporary extra workspace would also be required where the planned pipeline crosses roads and foreign utilities. Construction of the planned pipeline would disturb about 100 acres.

The 50-foot-square Enterprise tie-in would require about 0.3 acre during construction, while construction of the meter station at the Greasewood Hub would take place within the planned 4.6-acre permanent site. With the exception of the 25-foot-wide by 400-foot-long (0.2 acre) new access road to the Enterprise tie-in, existing access roads would be used to construct the new pipeline. Of these roads, about 3 miles would have to be upgraded to handle construction vehicles (totaling about 9 acres of temporary disturbance). Finally, truck ramps would be constructed where the new pipeline crosses County Road 5 (0.5 acre of temporary disturbance). Overall, construction is estimated to temporarily disturb about 114 acres, not including pipe storage and contractor yards which have yet to be located.

Following construction, White River plans to maintain a 50-foot-wide permanent ROW for the new pipeline. In addition to the new access road to the Enterprise tie-in facility and the new meter station at Greasewood, land permanently affected by the planned White River Hub Project would total about 44 acres.³ All temporary workspaces outside the permanent ROW would be restored and allowed to revert to current uses.

³ Because the tie-in would be sited entirely within the existing Enterprise ROW, this facility would not contribute to the land area permanently affected.

The EA Process

We are preparing this EA to comply with NEPA, which requires the Commission to take into account the environmental impacts that could result if it authorizes White River's planned project. NEPA also requires us to discover and address concerns the public may have about proposal. This process is referred to as “scoping.” The main goal of the scoping process is to focus the analysis in the EA on the important environmental issues and reasonable alternatives. With this Notice, we are requesting public comments on the scope of the issues to be addressed in the EA. All comments received will be considered during preparation of the EA.

The EA will present our independent analysis of the issues. Depending upon the comments received during the scoping process, the EA may be published and mailed to federal, state, and local agencies, public interest groups, interested individuals, potentially affected landowners, newspapers and libraries in the project area, and the Commission's official service list for this proceeding. A comment period will be allotted for review if the EA is published. We will consider all timely comments on the EA before we make our recommendations to the Commission. To ensure your comments are considered, please carefully follow the instructions in the Public Participation section below.

Although no formal application has been filed with the FERC, we have already initiated our NEPA review under the Commission's Pre-Filing Process. The purpose of the Pre-Filing Process is to encourage early involvement of interested stakeholders and to identify and resolve issues before an application is filed with the FERC.

Public Participation

You can make a difference by providing us with your specific comments or concerns about the project. By becoming a commentor, your concerns will be addressed in the EA and considered by the Commission. Your comments should focus on the potential environmental effects, reasonable alternatives (including alternative facility sites and pipeline routes), and measures to avoid or lessen environmental impacts. The more specific your comments, the more useful they will be. To ensure that your comments are timely and properly recorded, please follow these instructions:

• Send an original and two copies of your letter to: Kimberly D. Bose, Secretary, Federal Energy Regulatory Commission, 888 First Street, NE., Room 1A, Washington, DC 20426;

• Label one copy of your comments for the attention of Gas Branch 1, DG2E;

• Reference Docket No. PF08-3-000 on the original and both copies; and

• Mail your comments so that they will be received in Washington, DC on or before December 10, 2007.

If you submit comments by mail, submit them in an unbound format, no larger than 8.5 by 11 inches, suitable for copying. However, the Commission strongly encourages electronic filing of any comments in response to this Notice. For information on electronically filing comments, please see the instructions on the Commission's Web site at http://www.ferc.gov under the “e-Filing” link and the link to the User's Guide, as well as information in 18 CFR 385.2001(a)(1)(iii). Before you can file comments you will need to create a free account, which can be accomplished on-line.

We may mail the EA for comment. If you are interested in receiving it, please return the Mailing List Return Mailer (appendix 2). If you do not return the Return Mailer, you will be taken off the mailing list.

Additional Information

Additional information about the project is available from the Commission's Office of External Affairs, at 1-866-208-FERC (3372) or on the FERC Internet Web site (www.ferc.gov) using the “eLibrary” link. Click on the eLibrary link, select “General Search” and enter the project docket number excluding the last three digits (i.e., PF06-14) in the “Docket Number” field. Be sure you have selected an appropriate date range. For assistance with eLibrary, the eLibrary helpline can be reached at 1-866-208-3676, TTY (202) 502-8659, or by e-mail at FercOnlineSupport@ferc.gov. The eLibrary link on the FERC Internet Web site also provides access to the texts of formal documents issued by the Commission, such as orders, notices, and rule makings.

In addition, the FERC now offers a free service called e-Subscription that allows you to keep track of all formal issuances and submittals in specific dockets. This can reduce the amount of time you spend researching proceedings by automatically providing you with notification of these filings, document summaries, and direct links to the documents. To register for this service, go to http://www.ferc.gov/esubscribenow.htm.

Any public meetings or site visits for this project will be posted on the Commission's calendar located at http://www.ferc.gov/EventCalendar/EventsList.aspx along with other related information.

Finally, White River has established an Internet Web site for this project at http://www.questarpipeline.com. The Web site includes a description of the project and the Commission's pre-filing review process, instructions on how the public may participate in the project review, and public libraries where project-related information will be made available. You can also request additional information or provide comments directly to White River at (800) 366-8532.

Kimberly D. Bose,
Secretary.

[FR Doc. E7-22617 Filed 11-19-07; 8:45 am]

BILLING CODE 6717-01-P